DEPARTMENT OF LABOR

Employment and Training Administration

[TA-W-59,227]

The York Group Metal Casket Assembly Matthews Casket Division, a Subsidiary of Matthews International, Marshfield, MO; Notice of Negative Determination on Reconsideration

On July 12, 2006, the Department issued an Affirmative Determination Regarding Application on Reconsideration applicable to workers and former workers of the subject firm. The notice was published in the Federal Register on July 25, 2006 (71 FR 42128).

The Department initially denied Trade Adjustment Assistance to workers of The York Group Metal Casket Assembly, Matthews Casket Division, a subsidiary of Matthews International, Marshfield, Missouri, based on criteria (a)(2)(A)(I.A) and (a)(2)(B)(II.A) of the group eligibility requirements of Section 222 of the Trade Act of 1974, as amended, not being met: A significant number or proportion of the workers in such workers' firm, or an appropriate subdivision of the firm, have become totally or partially separated, or are threatened to become totally or partially separated. The workers at the subject firm are engaged in employment related to the production of metal caskets.

The petitioner indicated that the Department of Labor did not consider the loss of wages and hours of the worker group in the initial investigation. The petitioner also indicated that the Department should request the Affirmative Action Plan for 2004, 2005, and 2006, thus far, from the company for the subject firm, specifying weekly production numbers and weekly hours. The petitioner believes this Plan will reveal that five percent of the workforce was affected by layoffs and decreased hours.

The Department, upon the request of the petitioner, acquired additional information as it pertains to workers' hours and wages during the relevant period. That data was not requested during the initial investigation. The Department also revisited the subject firm's employment numbers for the relevant period. The additional data obtained from the company revealed that the subject firm did not separate or threaten to separate a significant number or proportion of workers as required by Section 222 of the Trade Act of 1974.

The petitioner's statement regarding loss of hours and wages does not meet the definition of partial separations, defined as the worker's hours of work have been reduced to 80 percent or less of the worker's average weekly hours at the firm or appropriate subdivision thereof, and the worker's wages have been reduced to 80 percent or less of the worker's average weekly wage at the firm or appropriate subdivisions thereof, as set forth by the trade regulations.

The company official provided information showing that the average wage rate, not considering average overtime, has increased during the relevant period. Additionally, as it pertains to hours, no workers were placed on a reduced, less than 40 hours per week for more than two consecutive weeks, work schedule during the relevant period. Furthermore, employment as the subject firm still revealed an insignificant percentage of separations, as defined by the criteria (a)(2)(A)(I.A) and (a)(2)(B)(II.A), during the scope of the initial investigation; therefore, the group eligibility requirement was not met. If conditions change, the petitioners may reapply for Trade Adjustment Assistance group eligibility.

Conclusion

After reconsideration, I affirm the original notice of negative determination of eligibility to apply for worker adjustment assistance for workers and former workers of The York Group Metal Casket Assembly, Matthews Casket Division, a subsidiary of Matthews International, Marshfield, Missouri.

Signed at Washington, DC this 28th day of August 2006.
Elliott S. Kushner,
Certifying Officer, Division of Trade Adjustment Assistance.

[FR Doc. E6-14725 Filed 9-5-06; 8:45 am]

BILLING CODE 4510-30-P